DEPARTMENT OF ENERGY

Federal Energy Regulatory Commission

[Docket No. GT02-38-000]

Northern Natural Gas Company; Notice of Technical Conference

October 4, 2002.

In the Commission's order issued on September 20, 2002,¹ the Commission directed that a technical conference be held to address issues raised by the filing.

¹ Northern Natural Gas Company, 100 FERC ¶ 61,278 (2002).

Take notice that the technical conference will be held on Tuesday, November 12, 2002, at 10 am, in a room to be designated at the offices of the Federal Energy Regulatory Commission, 888 First Street, NE., Washington, DC 20426. Please contact Charles B. Spencer in the Office of the Secretary on (202) 502-8897, for further information.

All interested parties and Staff are permitted to attend.

Magalie R. Salas,
Secretary.

[FR Doc. 02-25801 Filed 10-10-02; 8:45 am]

BILLING CODE 6717-01-P